DEPARTMENT OF TRANSPORTATION

Federal Highway Administration

Notice of Final Federal Agency Actions on Proposed Highway in Washington, District of Columbia

AGENCY: Federal Highway Administration (FHWA), DOT

ACTION: Notice of limitation on claims for judicial review of actions by FHWA and other Federal agencies

SUMMARY: This notice announces actions taken by the FHWA and other Federal agencies that are final within the meaning of 23 U.S.C. 139(l)(1). The actions relate to a proposed highway project, South Capitol Street Project, the reconstruction of South Capitol Street from Firth Sterling Avenue SE. to D Street and Suitland Parkway from Martin Luther King, Jr. Avenue SE. to South Capitol Street; replacement of the Frederick Douglass Memorial Bridge; and streetscape improvements to New Jersey Avenue SE., Washington, DC. Those actions grant licenses, permits, and approvals for the project.

DATES: By this notice, the FHWA is advising the public of final agency actions subject to 23 U.S.C. 139(l)(1). A claim seeking judicial review of the Federal agency actions on the highway project will be barred unless the claim is filed on or before August 1, 2016. If the Federal law that authorizes judicial review of a claim provides a time period of less than 150 days for filing such claim, then that shorter time period still applies.

FOR FURTHER INFORMATION CONTACT: For FHWA: Mr. Joseph C. Lawson, Division Administrator, Federal Highway Administration, 1990 K Street NW., Suite 510, Washington, DC 20006-1103; telephone: (202) 219-3570; email: Christopher.Lawson@dot.gov. The FHWA District of Columbia Division Office's normal business hours are 8:00 a.m. to 4:30 p.m. (eastern time). You may also contact Mr. Delmar Lytle, Program Manager, Anacostia Waterfront Initiative, District Department of Transportation (DDOT), 55 M Street SE., Suite 400, Washington, DC, 20003; telephone: (202) 741-5356; email: delmar.lytle@dc.gov. The District Department of Transportation's normal business hours are 8:15 a.m. to 4:45 p.m. (eastern time).

SUPPLEMENTARY INFORMATION: Notice is hereby given that the FHWA and other Federal agencies have taken final agency actions subject to 23 U.S.C. 139(l)(1) and as allowed in Section 1319(b) of the Moving Ahead for Progress in the 21st Century Act (MAP-21) has issued a combined Supplemental Final Environmental Impact Statement and Record of Decision for the following highway project in the District of Columbia. The South Capitol Street Project will include South Capitol Street being rebuilt as a six-lane boulevard with a landscaped median west of the Anacostia River. This will include reconstruction of the at-grade intersections at I, N, O, P, K, and L Streets, and the conversion of the existing grade-separated intersection at South Capitol Street/M Street into an at-grade intersection. Streetscape improvements will be included along the section of South Capitol Street north of I-695. The I-695/South Capitol Street interchange will be reconstructed. The existing ramp from northbound South Capitol Street to eastbound I-695 will be converted to an at-grade intersection. The eastbound I-695 ramp to southbound South Capitol Street will be converted to an urban interchange ramp with South Capitol Street. The alignment for the new Frederick Douglass Memorial Bridge was shifted parallel to and directly adjacent to the south side or downstream from the existing bridge superstructure. Traffic ovals of approximately 250 feet by 555 feet in size will be placed at the both the western and eastern approaches to the new bridge. Both ovals will be oriented in the same direction. The east traffic oval will be located entirely within the existing DDOT right-of-way. The west oval will connect South Capitol Street, Potomac Avenue and Q Street SW. The east oval will connect with the realigned South Capitol Street and Suitland Parkway, and provide a direct roadway connection with the Poplar Point section of Anacostia Park, including its shared-use paths. The Martin Luther King, Jr. Avenue SE overpass at Suitland Parkway will be converted into an urban diamond interchange. This will include the widening of Martin Luther King, Jr. Avenue SE at Suitland Parkway to accommodate a new multi-use trail. The existing Suitland Parkway/I-295 interchange will be converted into a modified diamond with a two-lane loop ramp for I-295 southbound at Suitland Parkway, and a new traffic signal at the merge point with Suitland Parkway.

The Federal-aid project number is: 1501(041). The Notice of Intent (NOI) was issued on April 26, 2005; the Draft Environmental Impact Statement/Section 4(f) Evaluation (DEIS) was issued on February 15, 2008; the Final Environmental Impact Statement/Section 4(f) Evaluation (FEIS) was signed on March 22, 2011. The Revised Notice of Intent (NOI) for the Supplemental Draft Environmental Impact Statement (SDEIS) was issued in December 8, 2014; the SDEIS was issued on December 19, 2014; a combined Supplemental Final Environmental Impact Statement (SFEIS) and Record of Decision was issued on August 28, 2015. Information about the project is also available from the FHWA and the District Department of Transportation at the addresses provided above. The SDEIS, SFEIS/ROD and other documents can be viewed and downloaded from the project Web site at: http://southcapitoleis.com/documents/.

This notice applies to other Federal agency decisions as of the issuance date of this notice and all laws under which actions were taken including, but not limited to:

1. General: National Environmental Policy Act (NEPA) [42 U.S.C. 4321-4347]; Federal-Aid Highway Act [23 U.S.C. 109 and 23 U.S.C.128].

2. Council on Environmental Quality (CEQ) regulations (40 CFR parts 1500-1508), FHWA Code of Federal Regulations (23 CFR 771.101-771.137, et seq.).

3. Air: Clean Air Act, 42 U.S.C. 7401-7671(q).

4. Land: Section 4(f) of the Department of Transportation Act of 1966 [23 U.S.C. 138 and 49 U.S.C. 303].

5. Wildlife: Endangered Species Act [16 U.S.C. 1531-1544 and Section 1536], Marine Mammal Protection Act [16 U.S.C. 1361], Anadromous Fish Conservation Act [16 U.S.C. 757(a)-757(g)], Fish and Wildlife Coordination Act [16 U.S.C. 661-667(d)], Migratory Bird Treaty Act [16 U.S.C. 703-712].

6. Historic and Cultural Resources: Section 106 of the National Historic Preservation Act of 1966, as amended [16 U.S.C. 470(f) et seq.]; Archeological Resources Protection Act of 1977 [16 U.S.C. 470(aa)-II]; Archeological and Historic Preservation Act [16 U.S.C. 469-469(c)]; Native American Grave Protection and Repatriation Act (NAGPRA) [25 U.S.C. 3001-3013].

7. Social and Economic: Title VI of the Civil Rights Act of 1964 [42 U.S.C. 2000(d)-2000(d)(1)].

8. Wetlands and Water Resources: Safe Drinking Water Act (SDWA), 42 U.S.C. 300(f)-300(j); TEA-21 Wetlands Mitigation, 23 U.S.C. 103(b)(6)(m); Land and Water Conservation Fund (LWCF), 16 U.S.C. 4601-4604.

9. Hazardous Materials: Comprehensive Environmental Response, Compensation, and Liability Act (CERCLA), 42 U.S.C. 9601-9675.

10. Executive Orders: E.O. 11990 Protection of Wetlands; E.O. 11988 Floodplain Management; E.O. 12898, Federal Actions to Address Environmental Justice in Minority Populations and Low Income Populations; E.O. 11593 Protection and Enhancement of Cultural Resources; E.O. 11514 Protection and Enhancement of Environmental Quality.

11. Provisions of Safe Accountable Flexible Efficient Transportation Equity Act: A Legacy for Users (SAFETEA-LU) and the Moving Ahead for Progress in the 21st Century Act (MAP-21), which replaced SAFETEA-LU on July 6, 2012.

(Catalog of Federal Domestic Assistance Program Number 20.205, Highway Planning and Construction. The regulations implementing Executive Order 12372 regarding intergovernmental consultation on Federal programs and activities apply to this program.)

Authority: 23 U.S.C. 139(l)(1).

Issued on: February 23, 2016.
Joseph C. Lawson,
Division Administrator, District of Columbia.

[FR Doc. 2016-04546 Filed 3-3-16; 8:45 am]

BILLING CODE 4910-22-P